FEDERAL COMMUNICATIONS COMMISSION

Radio Broadcasting Services; AM or FM Proposals To Change the Community of License

AGENCY: Federal Communications Commission.

ACTION: Notice.

SUMMARY: The following applicants filed AM or FM proposals to change the community of license: ALELUYA BROADCASTING NETWORK, Station NEW, Facility ID 123270, BMPED-20110629BPM, From BAY CITY, TX, To LOUISE, TX; DAVID L. SMITH, Station WGRL, Facility ID 170939, BMPH-20110718ABP, From FREDERIC, MI, To TUSCARORA TOWNSHIP, MI; L. TOPAZ ENTERPRISES, INC., Station NEW, Facility ID 189562, BNPH-20110624ADA, From MCCALL, ID, To UNION, OR; M&M BROADCASTERS, LTD., Station KHHG, Facility ID 170991, BPH-20110620AGF, From HAMILTON, TX, To HICO, TX; NORMIN BROADCASTING CO., Station NEW, Facility ID 189577, BNPH-20110630AIA, From RED LAKE, MN, To RED LAKE FALLS, MN; S & S VENEGAS, LLC, Station KRBN, Facility ID 170993, BPH-20110627ABP, From BURNEY, CA, To MANTON, CA; SOUTH SOUND BROADCASTING, LLC, Station KOMO-FM, Facility ID 51167, BMPH-20110630AGT, From OAKVILLE, WA, To BELFAIR, WA; SUNNYLANDS BROADCASTING LLC, Station NEW, Facility ID 189496, BNPH-20110630AGJ, From ILWACO, WA, To OAKVILLE, WA; THRESHOLD COMMUNICATIONS, Station NEW, Facility ID 189494, BNPH-20110630AHJ, From CLATSKANIE, OR, To FORDS PRAIRIE, WA; TLAPEK, DON J, Station NEW, Facility ID 189525, BNPH-20110628ABN, From GUNNISON, CO, To OLATHE, CO.

DATES: The agency must receive comments on or before October 17, 2011.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. 2011-20828 Filed 8-15-11; 8:45 am]

BILLING CODE 6712-01-P